DEPARTMENT OF ENERGY

Federal Energy Regulatory Commission

Combined Notice of Filings #1

Take notice that the Commission received the following exempt wholesale generator filings:

Docket Numbers: EG18-47-000.

Applicants: Elk City Renewables II, LLC.

Description: Notice of Self-Certification of Exempt Wholesale Generator Status of Elk City Renewables II, LLC.

Filed Date: 2/16/18.

Accession Number: 20180216-5172.

Comments Due: 5 p.m. ET 3/9/18.

Take notice that the Commission received the following electric rate filings:

Docket Numbers: ER16-2401-001.

Applicants: PJM Interconnection, L.L.C.

Description: Compliance filing: Compliance filing per 1/18/2018 order in Docket No. ER16-2401 to be effective 1/18/2018.

Filed Date: 2/16/18.

Accession Number: 20180216-5178.

Comments Due: 5 p.m. ET 3/9/18.

Docket Numbers: ER17-419-004.

Applicants: Transource Pennsylvania, LLC, Transource Maryland, LLC, PJM Interconnection, L.L.C.

Description: Compliance filing: Transource PA and MD submit Compliance Filing in ER17-419 re: 1/18/18 Order to be effective 2/1/2017.

Filed Date: 2/16/18.

Accession Number: 20180216-5006.

Comments Due: 5 p.m. ET 3/9/18.

Docket Numbers: ER18-473-001.

Applicants: Union Electric Company.

Description: Tariff Amendment: Supplement to Filing of Union Electric Company to be effective 1/1/2018.

Filed Date: 2/16/18.

Accession Number: 20180216-5164.

Comments Due: 5 p.m. ET 3/9/18.

Docket Numbers: ER18-861-000.

Applicants: New York Independent System Operator, Inc.

Description: Compliance filing: Procedures for revenue allocation from sale of non-historic fixed price TCCs to be effective 4/17/2018.

Filed Date: 2/15/18.

Accession Number: 20180215-5119.

Comments Due: 5 p.m. ET 3/8/18.

Docket Numbers: ER18-862-000.

Applicants: California Independent System Operator Corporation.

Description: § 205(d) Rate Filing: 2018-02-15 Planning Coordinator Agreement with Silicon Valley Power to be effective 4/17/2018.

Filed Date: 2/15/18.

Accession Number: 20180215-5143.

Comments Due: 5 p.m. ET 3/8/18.

Docket Numbers: ER18-863-000.

Applicants: PJM Interconnection, L.L.C.

Description: § 205(d) Rate Filing: Original WMPA SA No. 4942; Queue No. AC1-154 to be effective 1/22/2018.

Filed Date: 2/15/18.

Accession Number: 20180215-5151.

Comments Due: 5 p.m. ET 3/8/18.

Docket Numbers: ER18-864-000.

Applicants: PJM Interconnection, L.L.C.

Description: § 205(d) Rate Filing: Original WMPA SA No. 4943; PJM Queue No. AC1-050 to be effective 1/22/2018.

Filed Date: 2/15/18.

Accession Number: 20180215-5155.

Comments Due: 5 p.m. ET 3/8/18.

Docket Numbers: ER18-865-000.

Applicants: Power 52 Inc.

Description: Baseline eTariff Filing: Power52 Market Based Rate Tariff to be effective 4/17/2018.

Filed Date: 2/15/18.

Accession Number: 20180215-5179.

Comments Due: 5 p.m. ET 3/8/18.

Docket Numbers: ER18-866-000.

Applicants: Midcontinent Independent System Operator, Inc., Ameren Transmission Company of Illinois.

Description: § 205(d) Rate Filing: 2018-02-16_SA 3099 ATXI-UEC Construction Agreement (Adair) to be effective 1/18/2018.

Filed Date: 2/16/18.

Accession Number: 20180216-5004.

Comments Due: 5 p.m. ET 3/9/18.

Docket Numbers: ER18-867-000.

Applicants: Midcontinent Independent System Operator, Inc.

Description: § 205(d) Rate Filing: 2018-02-16 Tariff revisions for the recovery of costs of TMEPs to be effective 4/18/2018.

Filed Date: 2/16/18.

Accession Number: 20180216-5088.

Comments Due: 5 p.m. ET 3/9/18.

Docket Numbers: ER18-868-000.

Applicants: Sierra Pacific Power Company.

Description: § 205(d) Rate Filing: Rate Schedule No. 72—SPPC/Steamboat Scheduling Agr. to be effective 2/17/2018.

Filed Date: 2/16/18.

Accession Number: 20180216-5098.

Comments Due: 5 p.m. ET 3/9/18.

Docket Numbers: ER18-869-000.

Applicants: PJM Interconnection, L.L.C.

Description: § 205(d) Rate Filing: First Revised ISA, SA No. 3904; Queue No. AA1-108 to be effective 1/18/2018.

Filed Date: 2/16/18.

Accession Number: 20180216-5130.

Comments Due: 5 p.m. ET 3/9/18.

Docket Numbers: ER18-870-000.

Applicants: PJM Interconnection, L.L.C.

Description: § 205(d) Rate Filing: Revisions to OATT and RAA RE: Energy Efficiency to be effective 4/17/2018.

Filed Date: 2/16/18.

Accession Number: 20180216-5176.

Comments Due: 5 p.m. ET 3/9/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 16, 2018.
Nathaniel J. Davis, Sr.,
Deputy Secretary.

[FR Doc. 2018-03716 Filed 2-22-18; 8:45 am]

BILLING CODE 6717-01-P